DEPARTMENT OF HOMELAND SECURITY

Federal Emergency Management Agency

[Docket ID: FEMA-2009-0001]

Agency Information Collection Activities: Submission for OMB Review; Comment Request

AGENCY: Federal Emergency Management Agency, DHS.

ACTION: Notice; 30-day notice and request for comments; revision of a currently approved information collection; OMB No. 1660-0001; FEMA Form 646-0-1 (new number assignment replacing FEMA Form 85-3), National Defense Executive Reserve Personal Qualifications Statement.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before July 6, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-6974.

FOR FURTHER INFORMATION CONTACT: Requests for additional information or copies of the information collection should be made to Director, Records Management Division, 1800 South Bell Street, Arlington, VA 20598-3005, facsimile number (202) 646-3347, or e-mail address FEMA-Information-Collections@dhs.gov.

SUPPLEMENTARY INFORMATION:

Collection of Information

Title: National Defense Executive Reserve Personal Qualifications Statement.

Type of information collection: Revision of a currently approved information collection.

OMB Number: 1660-0001.

Form Titles and Numbers: FEMA Form 646-0-1 (new number assignment replacing FEMA Form 85-3), National Defense Executive Reserve Personal Qualifications Statement.

Abstract: FEMA Form 646-0-1, National Defense Executive Reserve Personal Qualifications Statement, is an application form that is used by Federal departments and agencies to fill NDER vacancies. To become a Reservist, individuals with the requisite qualifications must complete the application form. FEMA serves as the NDER coordinator for all Federal departments and agencies, ensuring that applicants are not already serving in a Federal department or agency sponsored unit and determines the Federal department or agency best suited for the applicant.

Affected Public: “Individuals or households”.

Estimated Number of Respondents: 10.

Frequency of Response: Once.

Estimated Average Hour Burden per Respondent: .5 hours.

Estimated Total Annual Burden Hours: 5 hours.

Estimated Cost: There is no annual reporting or recordkeeping costs associated with this collection.

Larry Gray,
Director, Records Management Division, Office of Management, Federal Emergency Management Agency, Department of Homeland Security.

[FR Doc. E9-12828 Filed 6-2-09; 8:45 am]

BILLING CODE 9111-23-P